FEDERAL MARITIME COMMISSION

Ocean Transportation Intermediary License Revocations

The Commission gives notice that the following Ocean Transportation Intermediary licenses have been revoked pursuant to section 19 of the Shipping Act of 1984 (46 U.S.C. 40101) effective on the date shown.

License No.: 0345F.

Name: Stone Forwarding Company, Inc.

Address: 6000 Broadway, Suite 101, Galveston, TX 77551.

Date Revoked: May 1, 2013.

Reason: Failed to maintain a valid bond.

License No.: 1621F.

Name: Soo Hoo, Angela M. dba Soo Hoo Customs Broker.

Address: 977 N. Broadway, Suite 307, Los Angeles, CA 90012.

Date Revoked: May 1, 2013.

Reason: Failed to maintain a valid bond.

License No.: 003081N.

Name: SMS Express Company, Inc. dba Dyna Freight Inc.

Address: 19516 So. Susana Road, Rancho Dominguez, CA 90221.

Date Revoked: April 28, 2013.

Reason: Failed to maintain a valid bond.

License No.: 15328N.

Name: Apex World Transport, Inc.

Address: 2127 Kennewick Place NE., Renton, WA 98056.

Date Revoked: May 10, 2013.

Reason: Failed to maintain a valid bond.

License No.: 15975N.

Name: Centrans International Marines Shipping (USA), Inc. dba Centrans International Forwarding Co.

Address: 6161 Savoy Drive, Suite 300, Houston, TX 77035.

Date Revoked: May 10, 2013.

Reason: Failed to maintain a valid bond.

License No.: 017279N.

Name: Unicom Trans, Inc.

Address: 15500 S. Western Avenue, Gardena, CA 90249.

Date Revoked: May 11, 2013.

Reason: Failed to maintain a valid bond.

License No.: 017948F.

Name: API Network, Inc.

Address: 3318 SW 2nd Avenue, Fort Lauderdale, FL 33315.

Date Revoked: May 2, 2013.

Reason: Failed to maintain a valid bond.

License No.: 18340N.

Name: Shipping International, Inc.

Address: 975 66th Avenue, Oakland, CA 94621.

Date Revoked: May 1, 2013.

Reason: Failed to maintain a valid bond.

License No.: 019060F.

Name: Skelton Sherborne Inc.

Address: 1225 North Loop West, Suite 432, Houston, TX 77008.

Date Revoked: May 10, 2013.

Reason: Failed to maintain a valid bond.

License No.: 019335N.

Name: Liner American Services Corp. dba American Liner Services.

Address: 8320 NW 14th Street, Doral, FL 33126.

Date Revoked: May 1, 2013.

Reason: Failed to maintain a valid bond.

License No.: 019625N.

Name: Transair Express Inc.

Address: 1601 Bayshore Highway, Suite 205, Burlington, CA 94010.

Date Revoked: May 1, 2013.

Reason: Failed to maintain a valid bond.

License No.: 020529F.

Name: KN Special Logistics, Inc.

Address: 22780 Indian Creek Drive, Suite 160, Sterling, VA 20166.

Date Revoked: May 18, 2013.

Reason: Failed to maintain a valid bond.

License No.: 022034N.

Name: Competition Transport Inc.

Address: 1326 Spruce Avenue, Orlando, FL 32824.

Date Revoked: May 10, 2013.

Reason: Failed to maintain a valid bond.

License No.: 023565NF.

Name: Watercraft Mix, Inc. dba Export Import.

Address: 4380 E. 11th Avenue, Hialeah, FL 33013.

Date Revoked: May 17, 2013.

Reason: Failed to maintain valid bonds.

James A. Nussbaumer,
Deputy Director, Bureau of Certification and Licensing.

[FR Doc. 2013-14025 Filed 6-12-13; 8:45 am]

BILLING CODE 6730-01-P